DEPARTMENT OF AGRICULTURE

Grain Inspection, Packers and Stockyards Administration

Designation for the Olympia, WA Area

AGENCY: Grain Inspection, Packers and Stockyards Administration, USDA.

ACTION: Notice.

SUMMARY: GIPSA is announcing the designation of the Washington State Department of Agriculture (Washington) to provide official services under the United States Grain Standards Act (USGSA), as amended.

DATES: Effective Date: January 1, 2015.

ADDRESSES: Sharon Lathrop, Compliance Officer, USDA, GIPSA, FGIS, QACD, 10383 North Ambassador Drive, Kansas City, MO 64153.

FOR FURTHER INFORMATION CONTACT: Sharon Lathrop, 816-891-0415, Sharon.L.Lathrop@usda.gov or FGIS.QACD@usda.gov.

READ APPLICATIONS: All applications and comments are available for public inspection at the office above during regular business hours (7 CFR 1.27(c)).

SUPPLEMENTARY INFORMATION: In the August 26, 2014, Federal Register (79 FR 50886), GIPSA requested applications for designation to provide official services in the geographic areas presently serviced by Washington. Applications were due by September 25, 2014.

The current official agency, Washington, was the only applicant for designation to provide official services in these areas. As a result, GIPSA did not ask for additional comments.

GIPSA evaluated the designation criteria in USGSA 7 U.S.C. 79(f), and determined that Washington is qualified to provide official services in the geographic areas specified in the Federal Register on August 26, 2014. This designation to provide official services in the specified areas of Idaho, Oregon, and Washington is effective January 1, 2015, to December 31, 2017.

Interested persons may obtain official services by contacting this agency at the following telephone number:

Official agency | Headquarters location | Telephone | Designation start | Designation end
Washington | Olympia, WA | 360-902-1888 | 1/1/2015 | 12/31/2017

The USGSA authorizes the Secretary to designate a qualified applicant to provide official services in a specified area after determining that the applicant is better able than any other applicant to provide such official services 7 U.S.C. 79(f).

Larry Mitchell,
Administrator, Grain Inspection, Packers and Stockyards Administration.

[FR Doc. 2016-25015 Filed 10-14-16; 8:45 am]

BILLING CODE 3410-KD-P